DEPARTMENT OF HOUSING AND URBAN DEVELOPMENT

[Docket No. FR-4565-N-28]

Notice of Proposed Information Collection: Comment Request; Description of Materials

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: January 16, 2001.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410.

FOR FURTHER INFORMATION CONTACT: Vance T. Morris, Director, Office of Single Family Program Development, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clearity of the information to be collected; and (4) Minimize the burden of the collection of information on those who are to respond; including the use of appropriate automated collection techniques or other forms of information technology, e.g., permitting electronic submission of responses.

This Notice also lists the following information:

Title of Proposal: Description of Materials.

OMB Control Number, if applicable: 2502-0192.

Description of the need for the information and proposed use: This request for OMB review involves an extension of an approved information collection using Form HUD-92005, Description of Materials. Form HUD-92005 is the document HUD uses as an official record of the construction materials proposed for single family dwellings. Form HUD-92005 reflects the requirements of 24 CFR 200.929d and is universally accepted throughout the single family home construction industry. Without Form HUD-92005 or a similar record, it would be extremely difficuilt for HUD to determine if the proposed construction met regulatory requirements.

Agency form numbers, if applicable: HUD-92005.

Estimation of the total numbers of hours needed to prepare the information collection including number of respondents, frequency of response, and hours of response: The estimated number of respondents is 2,500 which will generate 50,000 responses, frequency of response is on occasion, the estimated time per response is ½ hour, and the total annual burden requested is 25,000 hours.

Status of the proposed information collection: Extension of currently approved collection.

Authority: The Paperwork Reduction Act of 1995, 44 U.S.C., Chapter 35, as amended.

Dated: November 3, 2000.
William C. Apgar,
Assistant Secretary for Housing-Federal Housing Commissioner.

[FR Doc. 00-29096 Filed 11-14-00; 8:45 am]

BILLING CODE 4210-27-M